DEPARTMENT OF TRANSPORTATION

Federal Aviation Administration

14 CFR Part 39

[Docket No. FAA-2005-21463; Directorate Identifier 2005-CE-30-AD; Amendment 39-14144; AD 2005-12-51]

RIN 2120-AA64

Airworthiness Directives; Rockwell International (Aircraft Specification No. A-2-575 Previously Held by North American and Recently Purchased by Boeing) Models AT-6 (SNJ-2), AT-6A (SNJ-3), AT-6B, AT-6C (SNJ-4), AT-6D (SNJ-5), AT-6F (SNJ-6), BC-1A, SNJ-7, and T-6G Airplanes; and Autair Ltd. (Aircraft Specification No. AR-11 Previously Held by Noorduyn Aviation Ltd.) Model Harvard (Army AT-16) Airplanes

AGENCY: Federal Aviation Administration (FAA), DOT.

ACTION: Final rule; correction

SUMMARY: This document makes a correction to Airworthiness Directive (AD) 2005-12-51, which was published in the Federal Register on June 21, 2005 (70 FR 35519), and applies to Rockwell International (Aircraft Specification No. A-2-575 previously held by North American and recently purchased by Boeing) Models AT-6 (SNJ-2), AT-6A (SNJ-3), AT-6B, AT-6C (SNJ-4), AT-6D (SNJ-5), AT-6F (SNJ-6), BC-1A, SNJ-7, and T-6G airplanes; and Autair Ltd. (Aircraft Specification No. AR-11 previously held by Noorduyn Aviation Ltd.) Model Harvard (Army AT-16) airplanes. We incorrectly referenced the docket number as FAA-2005-24163 throughout the document. The correct docket number is FAA-2005-21463. This action corrects the regulatory text.

DATES: The effective date of this AD remains June 23, 2005.

FOR FURTHER INFORMATION CONTACT: Fred Guerin, Aerospace Engineer, FAA, Los Angeles ACO, 3960 Paramount Blvd., Lakewood, CA 90712; telephone: (562) 627-5232; facsimile: (562) 627-5210; e-mail: fred.guerin@faa.gov.

SUPPLEMENTARY INFORMATION:

Discussion

On June 14, 2005, FAA issued AD 2005-12-51, Amendment 39-14144 (70 FR 35519, June 21, 2005), which applies to Rockwell International (Aircraft Specification No. A-2-575 previously held by North American and recently purchased by Boeing) Models AT-6 (SNJ-2), AT-6A (SNJ-3), AT-6B, AT-6C (SNJ-4), AT-6D (SNJ-5), AT-6F (SNJ-6), BC-1A, SNJ-7, and T-6G airplanes; and Autair Ltd. (Aircraft Specification No. AR-11 previously held by Noorduyn Aviation Ltd.) Model Harvard (Army AT-16) airplanes.

We incorrectly referenced the docket number as FAA-2005-24163 throughout the document. The correct docket number is FAA-2005-21463. This action corrects the regulatory text.

This AD requires immediate and repetitive inspections of the inboard and outboard, upper and lower wing attach angles (except for the nose angles) of both wings for fatigue cracks; and, if any crack is found, replacement of the cracked angle with a new angle.

Need for the Correction

This correction is needed to ensure that any comments (any written relevant data, views, or arguments regarding this AD) made by the public are appropriately filed and to eliminate misunderstanding in the field.

Correction of Publication

Accordingly, the publication of June 21, 2005 (70 FR 35519), of Amendment 39-14144; AD 2005-12-51, which was the subject of FR Doc. 05-12151, is corrected as follows:

Starting on page 35519 through page 35523, replace all references to Docket No. FAA-2005-24163 with Docket No. FAA-2005-21463.

PART 39—[AMENDED]

§ 39.13 [Corrected]

On page 35521, in section 39.13 [Amended], in paragraph 2, replace Docket No. FAA-2005-24163 with Docket No. FAA-2005-21463.

On page 35523, in section 39.13 [Amended], in paragraph (h), replace Docket No. FAA-2005-24163 with Docket No. FAA-2005-21463.

The effective date remains June 23, 2005.

Issued in Kansas City, Missouri, on July 5, 2005.
John R. Colomy,
Acting Manager, Small Airplane Directorate, Aircraft Certification Service.

[FR Doc. 05-13522 Filed 7-8-05; 8:45 am]

BILLING CODE 4910-13-P